SECURITIES AND EXCHANGE COMMISSION

[Release No. 34-45843A; File No. S7-12-02]

Draft Data Quality Assurance Guidelines; Correction

In FR Document No. 02-10931 on page 21785 for Wednesday, May 1, 2002, make the following correction:

In the third column, remove “By the Commission.” before the date line.

Dated: May 7, 2002.
Margaret H. McFarland,
Deputy Secretary.

[FR Doc. 02-11810 Filed 5-10-02; 8:45 am]

BILLING CODE 8010-01-U